DEPARTMENT OF HEALTH AND HUMAN SERVICES

National Institutes of Health

National Cancer Institute; Notice of Closed Meeting

Pursuant to section 10(d) of the Federal Advisory Committee Act, as amended (5 U.S.C. App.), notice is hereby given of a meeting of the Frederick National Laboratory Advisory Committee to the National Cancer Institute.

The meeting will be closed to the public in accordance with the provisions set forth in sections 552b(c)(4) and 552b(c)(6), Title 5 U.S.C., as amended. The discussion of research projects/programs could disclose unpublished and financial data, technical information, confidential trade secrets or commercial property, such as patentable material, and personal information concerning investigators/individuals, the disclosure of which would constitute a clearly unwarranted invasion of personal privacy.

Name of Committee: Frederick National Laboratory Advisory Committee to the National Cancer Institute.

Date: July 18, 2017.

Time: 1:00 p.m. to 4:00 p.m.

Agenda: To review the existing research portfolio (both intramural and extramural) and newly initiated research projects being conducted at the Frederick National Laboratory for Cancer Research (FNLCR).

Place: National Cancer Institute Shady Grove, 9609 Medical Center Drive, Room TE406, Rockville, MD 20850 (Virtual Meeting).

Contact Person: Caron A. Lyman, Ph.D., Executive Secretary, National Cancer Institute, National Institutes of Health, 9609 Medical Center Drive, Room 7W-126, Bethesda, MD 20892, 240-276-6348, lymanc@mail.nih.gov.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: June 22, 2017.
Melanie J. Pantoja,
Program Analyst, Office of Federal Advisory Committee Policy.

[FR Doc. 2017-13466 Filed 6-27-17; 8:45 am]

BILLING CODE 4140-01-P